DEPARTMENT OF ENERGY

Federal Energy Regulatory Commission

[Project No. 11730-029]

Black River Limited Partnership; Notice of Application for Non-Capacity Amendment of License Accepted for Filing and Soliciting Comments, Motions To Intervene, and Protests

Take notice that the following hydroelectric application has been filed with the Commission and is available for public inspection:

a. Application Type: Non-capacity Amendment of License.

b. Project No: 11730-029.

c. Date Filed: October 4, 2024.¹

¹ The October 4, 2024 filing supersedes filing supersedes December 7, 2021, March 24, 2023, August 4, 2023, and January 19, 2024 filings.

d. Applicant: Black River Limited Partnership (licensee).

e. Name of Project: Alverno Hydroelectric Project.

f. Location: The project is located on the Black River in Cheboygan County, Michigan, and does not occupy federal lands.

g. Filed Pursuant to: Federal Power Act, 16 U.S.C. 791a-825r.

h. Applicant Contact: Tiffany Heon, A-121 Strachan St., Port Hope, ON, Canada L1A 1J1, (647) 220-4476, tiffanyheon@hotmail.com and Jason Bush, 226379 North Croghan Road, Natural Bridge, NY 13665, (315) 408-1599, jason@energen-renewables.com.

i. FERC Contact: Jeremy Jessup, (202) 502-6779, Jeremy.Jessup@ferc.gov.

j. Cooperating Agencies: With this notice, the Commission is inviting federal, state, local, and Tribal agencies with jurisdiction and/or special expertise with respect to environmental issues affected by the proposal, that wish to cooperate in the preparation of any environmental document, if applicable, to follow the instructions for filing such requests described in item k below. Cooperating agencies should note the Commission's policy that agencies that cooperate in the preparation of any environmental document cannot also intervene. See 94 FERC ¶ 61,076 (2001).

k. Deadline for filing comments, motions to intervene, and protests: June 2, 2025.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include the docket number P-11730-029. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. Description of Request: The licensee proposes to amend the operating requirements of the project pursuant to Article 404 of the license to be consistent with an amended water quality certification issued by the Michigan Department of Environment, Great Lakes, and Energy on January 4, 2023, and to address an ongoing compliance proceeding at the project. The licensee proposes to operate the project in run-of-river mode with a target reservoir operating level of 611.8+/− 0.5 feet NGVD. The licensee filed a revised Gaging and Flow Compliance Plan to accommodate the proposed changes to Article 404 and requests to revise the language of Article 405 of the license consistent with the revisions to Article 404 and the revised plan. The licensee also filed a request to extend the license term of the project by 10 years which would change the license expiration date from December 4, 2041 to December 4, 2051. The licensee requests the extension to alleviate the cost burden incurred in recent years to address issues related to applying terms of the license and water quality certification. There is no ground-disturbing activities associated with the licensee's proposal.

m. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

p. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

q. The Commission's Office of Public Participation (OPP) supports meaningful public engagement and participation in Commission proceedings. OPP can help members of the public, including landowners, community organizations and others, access publicly available information and navigate Commission processes. For public inquiries and assistance with making filings such as interventions, comments, or requests for rehearing, the public is encouraged to contact OPP at (202) 502-6595 or OPP@ferc.gov.

Dated: May 1, 2025.
Carlos D. Clay,
Deputy Secretary.

[FR Doc. 2025-07948 Filed 5-6-25; 8:45 am]

BILLING CODE 6717-01-P